INTERNATIONAL TRADE COMMISSION

[Inv. No. 337-TA-845]

Certain Products Containing Interactive Program Guide and Parental Control Technology; Institution of Investigation Pursuant to 19 U.S.C. 1337

AGENCY: U.S. International Trade Commission.

ACTION: Notice.

SUMMARY: Notice is hereby given that a complaint was filed with the U.S. International Trade Commission on May 1, 2012, under section 337 of the Tariff Act of 1930, as amended, 19 U.S.C. § 1337, on behalf of Rovi Corporation of Santa Clara, California; Rovi Guides, Inc. of Santa Clara, California; Rovi Technologies Corporation of Santa Clara, California; Starsight Telecast, Inc. of Santa Clara; United Video Properties, Inc. of Santa Clara, California; and Index Systems, Inc. of the British Virgin Islands. The complaint alleges violations of section 337 based upon the importation into the United States, the sale for importation, and the sale within the United States after importation of certain products containing interactive program guide and parental control technology by reason of infringement of certain claims of U.S. Patent No. 6,701,523 (“the `523 patent”); U.S. Patent No. 6,898,762 (“the `762 patent”); U.S. Patent No. 7,065,709 (“the `709 patent”); U.S. Patent No. 7,103,906 (“the `906 patent”); U.S. Patent No. 7,225,455 (“the `455 patent”); U.S. Patent No. 7,493,643 (“the `643 patent”); and U.S. Patent No. 8,112,776 (“the `776 patent”). The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of the Secretary, Docket Services Division, U.S. International Trade Commission, telephone (202) 205-1802.

AUTHORITY: The authority for institution of this investigation is contained in section 337 of the Tariff Act of 1930, as amended, and in section 210.10 of the Commission's Rules of Practice and Procedure, 19 CFR 210.10 (2012).

Scope of Investigation: Having considered the complaint, the U.S. International Trade Commission, on May 25, 2012, ordered that—

(1) Pursuant to subsection (b) of section 337 of the Tariff Act of 1930, as amended, an investigation be instituted to determine whether there is a violation of subsection (a)(1)(B) of section 337 in the importation into the United States, the sale for importation, or the sale within the United States after importation of certain products containing interactive program guide and parental control technology that infringe one or more of claim 1-4, 10, and 11 of the `523 patent; claims 1, 6, 7, 12, 13, and 17 of the `762 patent; claims 13-20 of the `709 patent; claims 1-3, 10, and 11 of the `906 patent; 1-36 of the `455 patent; claims 1-4, 7-10, and 13-16 of the `643 patent; and claims 1, 2, 4, 6, 14, 15, 17, and 19 of the `776 patent, and whether an industry in the United States exists as required by subsection (a)(2) of section 337;

(2) For the purpose of the investigation so instituted, the following are hereby named as parties upon which this notice of investigation shall be served:

(a) The complainants are:

Rovi Corporation, 2830 De La Cruz Boulevard, Santa Clara, CA 95050;

Rovi Guides, Inc., 2830 De La Cruz Boulevard, Santa Clara, CA 95050;

Rovi Technologies Corporation, 2830 De La Cruz Boulevard, Santa Clara, CA 95050;

Starsight Telecast, Inc., 2830 De La Cruz Boulevard, Santa Clara, CA 95050;

United Video Properties, Inc., 2830 De La Cruz Boulevard, Santa Clara, CA 95050;

Index Systems, Inc., Craigmuir Chambers, P.O. Box 71, Road Town, Tortola, British Virgin Islands, VG.

(b) The respondents are the following entities alleged to be in violation of section 337, and are the parties upon which the complaint is to be served:

LG Electronics, Inc., LG Twin Towers, 20 Yeouido-dong, Youngdeungpo-gu, Seoul 150-721, Republic of Korea;

LG Electronics U.S.A., Inc., 1000 Sylvan Avenue, Englewood Cliffs, NJ 07632;

Mitsubishi Electric Corp., Tokyo Building, 2-7-3, Marunouchi, Chiyoda-ku, Tokyo 100-8310, Japan;

Mitsubishi Electric US Holdings, Inc., 5665 Plaza Drive, Cypress, CA 90630;

Mitsubishi Electric and Electronics USA, Inc., 500 Corporate Woods Parkway, Vernon Hills, IL 60061;

Mitsubishi Electric Visual Solutions America, Inc., 9351 Jeronimo Road, Irvine, CA 92618;

Mitsubishi Digital Electronics America, Inc., 9351 Jeronimo Road, Irvine, CA 92618;

Netflix Inc., 100 Winchester Circle, Los Gatos, CA 95032;

Roku, Inc., 12980 Saratoga Avenue, Saratoga, CA 95070;

Vizio, Inc., 39 Tesla, Irvine, CA 92618.

(3) For the investigation so instituted, the Chief Administrative Law Judge, U.S. International Trade Commission, shall designate the presiding Administrative Law Judge.

(4) The Office of Unfair Imports Investigations will not participate as a party in this investigation.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: May 31, 2012.
Lisa R. Barton,
Acting Secretary to the Commission.

[FR Doc. 2012-13632 Filed 6-5-12; 8:45 am]

BILLING CODE 7020-02-P